DEPARTMENT OF THE INTERIOR

National Park Service

30-Day Notice of Intention To Request Clearance of Collection of Information; Opportunity for Public Comment

AGENCY: National Park Service, Interior.

ACTION: Notice and request for comments.

SUMMARY: The National Park Service (NPS) has submitted a request to OMB to renew approval of the collection of information in 36 CFR Part 51, Subpart J, regarding the assignment or encumbrance of concession contracts. NPS is requesting a 3-year term of approval for this information collection activity. An agency may not conduct or sponsor, and a person is not required to respond to, a collection of information unless it displays a currently valid Office of Management and Budget (OMB) control number.

DATES: Submit comments on or before May 26, 2009.

ADDRESSES: Submit comments directly to the Desk Officer for the Department of the Interior (OMB #1024-0126), Office of Information and Regulatory Affairs, Office of Management and Budget (OMB), by fax at 202/395-5806, or by electronic mail at oira_docket@omb.eop.gov. Please also mail or hand carry a copy of your comments to Ms. Jo A. Pendry, Chief, Commercial Services Program, National Park Service, 1201 Eye Street, NW., 11th Floor, Washington, DC 20005 or via fax at 202/371-2090.

FOR FURTHER INFORMATION CONTACT: Jo A. Pendry, Chief, Commercial Services Program, 1201 Eye Street, NW., 11th Floor, Washington, DC 20005 or via fax at 202/371-2090. You are entitled to a copy of the entire ICR package free-of-charge. You may access this ICR at http://www.reginfo.gov/public/.

Comments Received on the 60-Day Federal Register Notice:

The NPS published a 60-day notice to solicit public comments on this ICR in the Federal Register on July 11, 2008 (73 FR 39985). The comment period closed on September 9, 2008. No comments were received on this notice.

SUPPLEMENTARY INFORMATION: OMB Control Number: 1024-0126.

Title: Proposed Sale of Concession Operations, 36 CFR 51, Subpart J.

Form(s): None.

Type of Request: Extension of a currently approved collection of information.

Abstract: The NPS authorizes private businesses known as concessioners to provide necessary and appropriate visitor facilities and services in areas of the National Park System. Concession authorizations may be assigned, sold, transferred, or encumbered by the concessioner subject to prior written approval of the NPS. The NPS requires that certain information be submitted for review prior to the consummation of any sale, transfer, assignment, or encumbrance.

The information requested is used to determine whether or not the proposed transaction will result in an adverse impact on the protection, conservation, or preservation of the resources of the unit of the National Park System; decreased services to the public; the lack of a reasonable opportunity for profit over the remaining term of the authorization; or rates in excess of approved rates to the public. In addition, pursuant to the regulations at 36 CFR Part 51, the value of rights for intangible assets such as the concession contract, right of preference in renewal, user days, or low fees, belongs to the Government. If any portion of the purchase price is attributable either directly or indirectly to such assets, the transaction may not be approved. The amount and type of information to be submitted varies with the type and complexity of the proposed transaction. Without such information, the NPS would be unable to determine whether approval of the proposed transaction would be adequate.

Affected public: Businesses, individuals, and nonprofit organizations.

Obligation to respond: Required to obtain or retain a benefit.

Frequency of response: On occasion.

Estimated total annual responses: 20.

Estimated average completion time per response: 80 hours.

Estimated annual reporting burden: 1,600 hours.

Estimated annual nonhour cost burden: $5,000.

Comments are invited on: (1) The practical utility of the information being gathered; (2) the accuracy of the burden hour estimate; (3) ways to enhance the quality, utility, and clarity of the information to be collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that OMB will be able to do so.

Dated: April 17, 2009.
Cartina Miller,
NPS Information Collection Clearance Officer.

[FR Doc. E9-9413 Filed 4-23-09; 8:45 am]

BILLING CODE 4312-53-P